DEPARTMENT OF COMMERCE

National Oceanic and Atmospheric Administration

Availability of Seats for the Florida Keys National Marine Sanctuary Advisory Council

AGENCY: National Marine Sanctuary Program (NMSP), National Ocean Service (NOS), National Oceanic and Atmospheric Administration, Department of Commerce (DOC).

ACTION: Notice and request for applications.

SUMMARY: The Florida Keys National Marine Sanctuary (FKNMS or Sanctuary) is seeking applicants for the following vacant seats on its Sanctuary Advisory Council (Council): Citizen-at-Large, Middle Keys; Maritime Heritage; Research & Monitoring Alternate; Marine Life Alternate; Education Alternate and South Florida Ecosystem Restoration Alternate. Applicants are chosen based upon their particular expertise and experience in relation to the seat for which they are applying; community and professional affiliations; philosophy regarding the protection and management of marine resources; and possibly the length of residence in the area affected by the Sanctuary. Applicants who are chosen as members should expect to serve 2 or 3 year terms, pursuant to the Council's Charter.

DATES: Applications are due by March 31, 2006.

ADDRESSES: Application kits may be obtained from Fiona Wilmot, Florida Keys National Marine Sanctuary, P.O. Box 500368, Marathon, FL 33050, or electronically from Fiona.Wilmot@noaa.gov. They may also be downloaded from the Web site www.fknms.noaa.gov. Completed applications should be returned to the same address.

FOR FURTHER INFORMATION CONTACT: Fiona Wilmot at the above address or by telephone at (305) 743-2437, extension 27.

SUPPLEMENTARY INFORMATION: The FKNMS Advisory Council was established in 1991, and is the oldest of the 13 councils in the NMSP. It has 20 members covering a wide spectrum of interests in the Florida Keys community, including boating, conservation, diving, education, Everglades restoration, fishing (commercial and recreational), government, maritime heritage, research, tourism and the community-at-large. The Council meets bimonthly and also has a number of working groups focusing on specific issues at any given time. Ad hoc committees are formed to deal with one-time issues. The Council deals with emergent issues, acts as a conduit to the community with the Sanctuary, and advises Federal and State sanctuary managers on a consensus basis.

Authority: 16 U.S.C. Sections 1431, et seq.

(Federal Domestic Assistance Catalog Number 11.429 Marine Sanctuary Program)

Dated: January 9, 2006.
Daniel J. Basta,
Director, Office of National Marine Sanctuaries, National Oceanic and Atmospheric Administration.

[FR Doc. 06-338 Filed 1-12-06; 8:45 am]

BILLING CODE 3510-NK-M